DEPARTMENT OF LABOR

Veterans Employment and Training Service

Office of the Assistant Secretary for Veterans Employment and Training; Advisory Committee on Veterans' Employment and Training; Notice of Open Meeting

The Advisory Committee on Veterans' Employment and Training was established pursuant to Section 8 of the Veterans' Benefits Amendments Act of 1991 (Pub. L. 102-16) and codified in Title 38 U.S. Code 4110. The Committee is responsible for assessing the employment and training needs of the nation's veterans; for evaluating the effectiveness with which existing Department of Labor programs deliver required services to our nation's veterans; and for making recommendations to the Secretary of Labor on the Department of Labor's employment and training programs for veterans.

The Advisory Committee on Veterans Employment and Training will meet on Tuesday, May 9, 2006 beginning at 9:30 a.m. at the U.S. Department of Labor, 200 Constitution Ave, NW., Room S-2508, Washington, DC.

The Committee will discuss issues related to the employment and training needs of veterans, and the effectiveness of programs that provide those services. Individuals needing special accommodations should notify Ruth Samardick at (202) 693-4706 by May 1, 2006.

Signed in Washington, DC, this 5th day of April, 2006.
Charles S. Ciccolella,
Assistant Secretary, Veterans Employment and Training.

[FR Doc. E6-5269 Filed 4-10-06; 8:45 am]

BILLING CODE 4510-79-P